DEPARTMENT OF THE INTERIOR

Bureau of Indian Affairs

Submission of Information Collection to the Office of Management and Budget for Review Under the Paperwork Reduction Act

AGENCY: Bureau of Indian Affairs, Interior.

ACTION: Notice.

SUMMARY: The Bureau of Indian Affairs (BIA) is submitting to the Office of Management and Budget (OMB) the information collection, titled Grazing Permits, 25 CFR 166, OMB Control Number 1076-0157, for renewal. The purpose of this data collection is to collect information for 25 CFR 166 General Grazing Regulations as required by the Paperwork Reduction Act.

DATES: Submit comments on or before March 30, 2007.

ADDRESSES: You may submit comments on the information collection to the Desk Officer for the Department of the Interior, by facsimile at (202) 395-6566 or you may send an e-mail to: OIRA_DOCKET@omb.eop.gov.

Please send a copy of your comments to James R. Orwin, BIA, Office of Trust Services, Division of Natural Resources, Mail Stop 4655-MIB, 1849 C Street NW., Washington, DC 20240, or by Fax at (202) 219-0006.

FOR FURTHER INFORMATION CONTACT: You may request further information or obtain copies of the information collection request submission from James R. Orwin at (202) 208-6464 at the BIA Central Office in Washington, DC.

SUPPLEMENTARY INFORMATION: This collection of information is authorized under Public Law 103-177, the “American Indian Agricultural Resource Management Act,” as amended. Tribes, tribal organizations, individual Indians, and those entering into permits with tribes or individual Indians submit information required by the regulation. The information is used by the Bureau of Indian Affairs to determine:

(a) Whether or not a permit for grazing may be approved or granted;

(b) The value of each permit;

(c) The appropriate compensation to landowners; and

(d) Provisions for violations of permit and trespass.

A request for comments on this information collection request appeared in the Federal Register on October 30, 2006 (71 FR 63346). No comments were received. An administrative fee of up to 3 percent of the annual grazing rental is collected to reimburse the BIA for administration of the grazing permit program. In recent years, administrative fees have generated approximately $175,000 per year.

Request for Comments

The Bureau of Indian Affairs requests you to send your comments on this collection to the locations listed in the ADDRESSES section. Your comments should address:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

OMB has up to 60 days to make a decision on the submission for renewal, but may make the decision after 30 days. Therefore, to receive the best consideration of your comments, you should submit them closer to 30 days than 60 days.

Information Collection Abstract

OMB Control Number: 1076-0157.

Type of review: Renewal.

Title: Grazing Permits, 25 CFR 166.

Brief Description of Collection: Information is collected through a grazing permit application. Respondent supplies all information needed to prepare a grazing permit, including: name, address, range unit requested, number of livestock, season of use, livestock owner's brand, kind of livestock, mortgage holder information, ownership of livestock, and requested term of permit. Response is mandatory for respondents to supply the above information in order to obtain a grazing permit.

Respondents: Possible respondents include: individual tribal members, individual non-Indians, and tribal governments. Response is mandatory for respondents who wish to obtain a grazing permit.

Number of Respondents: 1,000.

Estimated Time per Response: 20 minutes (⅓ hour).

Frequency of Response: Annually and as needed.

Total Annual Responses: 2,570.

Total Annual Hourly Burden to Respondents: 856 hours.

Total Filing/Administrative Fees: $175,000 per year.

Dated: February 22, 2007.
Grayford Payne,
Acting Principal Deputy Assistant Secretary—Indian Affairs.

[FR Doc. E7-3495 Filed 2-27-07; 8:45 am]

BILLING CODE 4310-W7-P